DEPARTMENT OF EDUCATION

Notice of Proposed Information Collection Requests; Comment Request

AGENCY: Department of Education.

ACTION: Correction notice.

SUMMARY: On August 5, 2010, the Department of Education published a comment period notice in the Federal Register (Page 47282, Column 3) for the information collection, “Application for Grants under the Talent Search Program.” This notice hereby corrects the 60-day notice to a 30-day notice.

The Acting Director, Information Collection Clearance Division, Regulatory Information Management Services, Office of Management, hereby issues a correction notice as required by the Paperwork Reduction Act of 1995.

Dated: August 5, 2010.
James Hyler,
Acting Director, Information Collection Clearance Division, Regulatory Information Management Services, Office of Management.

[FR Doc. 2010-19732 Filed 8-9-10; 8:45 am]

BILLING CODE 4000-01-P